DEPARTMENT OF COMMERCE

National Oceanic and Atmospheric Administration

RIN 0648-XF929

Pacific Fishery Management Council; Public Meeting

AGENCY: National Marine Fisheries Service (NMFS), National Oceanic and Atmospheric Administration (NOAA), Commerce.

ACTION: Notice of public meeting.

SUMMARY: The Pacific Fishery Management Council (Pacific Council) and the National Oceanic and Atmospheric Administration's (NOAA) Southwest Fisheries Science Center (SWFSC) will hold a meeting that is open to the public.

DATES: The meeting will be held Monday, January 29 through Friday, February 2, 2018. The meeting will begin at 1 p.m. the first day and at 8:30 a.m. each subsequent day. The meeting will end each day at 5 p.m., or until business for the day has been completed.

ADDRESSES: The meeting will be held in the Pacific Conference Room of the NOAA SWFSC, 8901 La Jolla Shores Dr., La Jolla, CA 92037-1508.

Council address: Pacific Fishery Management Council, 7700 NE Ambassador Place, Suite 101, Portland, OR 97220; telephone: (503) 820-2280.

FOR FURTHER INFORMATION CONTACT: Kerry Griffin, Pacific Council; telephone: (503) 820-2409 or Dale Sweetnam, SWFSC; telephone: (858) 546-7170.

SUPPLEMENTARY INFORMATION: The purpose of the meeting is to conduct a methodology review of the NOAA acoustic-trawl survey methodology (ATM), conducted regularly to collect fisheries and oceanographic information in U.S. West Coast waters. The ATM survey has been approved for use in stock assessments for Pacific sardine, but has not yet been approved for use in stock assessments for northern anchovy, Pacific mackerel, or jack mackerel. At its April 2018 meeting, the Pacific Council will consider the results of this review, and will consider whether to approve the ATM for use in stock assessments for stocks other than Pacific sardine. An agenda and other meeting materials will be available by January 15, 2018, on the Pacific Council's ftp site: ftp://ftp.pcouncil.org/pub/2018%20ATM%20Methodology%20Review/.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This public listening station is physically accessible to people with disabilities. Requests for sign language interpretation or other auxiliary aids should be directed to Mr. Dale Sweetnam (858) 546-7170 at least 10 days prior to the meeting date.

Dated: January 8, 2018.
Tracey L. Thompson,
Acting Deputy Director, Office of Sustainable Fisheries, National Marine Fisheries Service.

[FR Doc. 2018-00374 Filed 1-10-18; 8:45 am]

BILLING CODE 3510-22-P